DEPARTMENT OF ENERGY

Federal Energy Regulatory Commission

[Project No. 2333-068]

Rumford Falls Hydro, LLC; Notice of Application for Amendment of License, and Soliciting Comments, Motions To Intervene, and Protests

May 18, 2010.

Take notice that the following hydroelectric application has been filed with the Commission and is available for public inspection:

a. Type of Application: Amendment of License.

b. Project No.: 2333-068.

c. Date Filed: July 23, 2009 and supplemented May 13, 2010.

d. Applicant: Rumford Falls Hydro, LLC.

e. Name of Project: Rumford Falls.

f. Location: The project is located on the Androscoggin River, in the Town of Rumford, Oxford County, Maine.

g. Filed Pursuant to: Federal Power Act, 16 U.S.C. 791a-825r.

h. Applicant Contact: Mr. Brian Stetson, General Manager, 1024 Central Street, Millinocket, ME 04462, (207) 723-4341.

i. FERC Contact: Any questions regarding this notice should be directed to Mr. Jeremy Jessup at (202) 502-6779 or Jeremy.Jessup@ferc.gov.

j. Deadline for filing comments, motions to intervene and protest: June 18, 2010. All documents may be filed electronically via the Internet. See, 18 CFR 385.2001(a)(1)(iii) and the instructions on the Commission's Web site at http://www.ferc.gov under the “e-Filing” link. If unable to be filed electronically, documents may be paper-filed. To paper-file, an original and eight copies should be mailed to: Secretary, Federal Energy Regulatory Commission, 888 First Street, NE., Washington, DC 20426. For more information on how to submit these types of filings, please go to the Commission's Web site located at http://ferc.gov.filing-comments.asp. Please include the project number (P-2333-068) on any comments, motions, or protests.

k. Description of Request: Rumford Falls Hydro, LLC, seeks a non-capacity amendment of license for the completed maintenance upgrades to Units 1 and 2 at the Lower Station in the form of runner replacements in July of 2008. The maintenance upgrades resulted in the efficiency of the units improving, increasing flow through each turbine by 98 cfs (196 cfs total) and increasing the capacity of each generator by 1,200 kilowatts (kW) (2,400 kW total). Rumford Falls Hydro, LLC also replaced the runner and rewound the generator on Unit 3 at the Upper Station in 2009. The work on Unit 3 resulted in an increase of 50 cfs flow through the turbine and an increase in the generator capacity by 1,300 kW.

l. Location of the Application: The filing is available for inspection and reproduction at the Commission's Public Reference Room, located at 888 First Street, NE., Room 2A, Washington, DC 20426 or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filing must (1) bear in all capital letters the title “COMMENTS”, “PROTEST”, or “MOTION TO INTERVENE” as applicable, (2) set forth in the heading the name of the applicant and the project numbers of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.34(b). All comments, motions to intervene or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Kimberly D. Bose,
Secretary.

[FR Doc. 2010-12501 Filed 5-24-10; 8:45 am]

BILLING CODE 6717-01-P